DEPARTMENT OF THE INTERIOR

Fish and Wildlife Service

[FWS-R4-ES-2014-N066; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by May 11, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Karen Marlowe, Permit Coordinator).

FOR FURTHER INFORMATION CONTACT: Karen Marlowe, 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 59645B-0

Applicant: Stephen Brock, Brandon, Mississippi

The applicant requests authorization to take (install artificial cavities and restrictors) red-cockaded woodpeckers (Picoides borealis) for population management to enhance the propagation and survival of the species in Mississippi.

Permit Application Number: TE 59798B-0

Applicant: Braven Beaty, Daguna Consulting LLC, Bristol, Virginia

This applicant requests authorization to take (capture, identify, mark with plastic shell tags, PIT-tag, and release) 31 species of mussels for purposes of conducting presence/absence surveys and population monitoring studies in the Tennessee and Cumberland River Basins in Tennessee.

Permit Application Number: TE 206777-2

Applicant: Ralph Costa, Mountain Rest, South Carolina

This applicant requests renewal of his current permit to take (capture, band, release, install artificial cavities and restrictors, monitor nest cavities, and translocate) red-cockaded woodpeckers (Picoides borealis) for population management to enhance the propagation and survival of the species throughout the species' range and as directed by the red-cockaded woodpecker recovery coordinator.

Permit Application Number: TE 60238B-0

Applicant: Byron Freeman, Georgia Museum of Natural History, Athens, Georgia

This applicant requests authorization to take (enter hibernacula, salvage dead bats, capture with mist nets or harp traps, handle, identify, collect hair samples, band, radio-tag, light-tag, wing-punch, and selectively euthanize for white-nose syndrome) Indiana bats (Myotis sodalis), gray bats (Myotis grisescens), and northern long-eared bats (Myotis septentrionalis) for the purposes of conducting presence/absence surveys, studies to document habitat use, and population monitoring throughout the species' respective ranges.

Permit Application Number: TE 237544-1

Applicant: Stephen Golladay, Newton, Georgia

This applicant requests renewal of his current permit to take (capture, identify, and release) fat threeridge (Amblema neislerii), purple bankclimber (Elliptoideus sloatianus), shiny-rayed pocketbook (Lampsilis subangulata), gulf moccasinshell (Medionidus penicillatus), and oval pigtoe (Pleurobema pyriforme) while conducting presence/absence surveys in Georgia.

Permit Application Number: TE 61981B-0

Applicant: Jacques Jenny, the Peregrine Fund Inc., Boise, Idaho

The applicant requests authorization to take (capture; band; radio-tag; collect blood samples, feathers, egg shells, and infertile eggs; and salvage carcasses) Puerto Rican sharp-shinned hawk (Accipiter striatus venator) for scientific research to promote conservation of the species in Puerto Rico.

Dated: April 3, 2015.
Leopoldo Miranda,
Assistant Regional Director—Ecological Services, Southeast Region.

[FR Doc. 2015-08263 Filed 4-9-15; 8:45 am]

BILLING CODE 4310-55-P